DEPARTMENT OF TRANSPORTATION

Federal Highway Administration

Supplemental Environmental Impact Statement; Cottonwood and Watonwan Counties, Minnesota

AGENCY: Federal Highway Administration (FHWA), DOT.

ACTION: Notice of intent.

SUMMARY: The FHWA is issuing this notice to advise the public that a Supplemental Environmental Impact Statement (EIS) will be prepared to address operational and safety issues on three sections of Trunk Highway (TH) 60.

FOR FURTHER INFORMATION CONTACT: Philip Forst, Environmental Specialist, Federal Highway Administration, 380 Jackson Street, Suite 500, Saint Paul, Minnesota 55101, Telephone (651) 291-6110; or Peter Harff, Project Manager, Minnesota Department of Transportation (District 7), 2151 Bassett Drive, Mankato, Minnesota 56001-6888, Telephone: (507) 304-6165.

SUPPLEMENTARY INFORMATION: The Minnesota Department of Transportation completed a Final Environmental Impact Statement for TH 60 from Worthington to St. James in 1983 (FHWA-MN-EIS-82-02-F). A Record of Decision (ROD) was issued by the Federal Highway Administration in 1984. The preferred alternative outlined in the 1983 EIS and 1984 ROD consisted of constructing a four-lane facility on a mix of new and existing alignment for a distance of approximately 52 miles. Portions of the project have been constructed, however, there are three segments of the 1983 EIS preferred alternative that have not been constructed as a four-lane facility: (1) Just west of the City of St. James to the eastern edge of the City of Butterfield, (2) western edge of the City of Butterfield to just east of the city of Mountain Lake, and (3) just west of the City of Mountain Lake to the northeast edge of the City of Windom. These three segments are approximately 5.3 miles, 4.2 miles, and 7.5 miles long, respectively.

It has been more than three years since the last major Federal action on this project. Because the original NEPA process was completed in 1984, a Supplemental EIS will be prepared to address changes in the project area, proposed changes to the preferred alternative identified in the 1983 EIS, and changes to regulations and Minnesota Statutes since the ROD was issued in 1984.

The Supplemental EIS will evaluate the social, economic, transportation and environmental impacts of alternatives, including (1) No-build, and (2) constructing a four-lane expressway.

The draft Supplemental EIS is anticipated to be published in late 2011. A press release will be published to inform the public of the document's availability. Copies of the draft Supplemental EIS will be posted on a MnDOT web site as well as distributed to agencies, interested persons and libraries for review to aid in identifying issues and analyses to be contained in the EIS. A thirty-day comment period for review of the document will be provided to afford an opportunity for all interested persons, agencies and groups to comment on the proposed action. A public hearing will also be held during the comment period. Public notice will be give for the time and place of the hearing.

A final Supplemental EIS will be prepared based on the outcome of public and agency responses to the draft Supplemental EIS. The final Supplemental EIS will be available for agency and public review and comment. Coordination has been initiated and will continue with appropriate Federal, State and local agencies and private organizations and citizens who have previously expressed or are known to have an interest in the proposed action.

The Federal Highway Administration is the lead Federal Agency for this NEPA effort. The United States Army Corps of Engineers and the United States Fish and Wildlife Service are Cooperating Agencies for this NEPA process.

To ensure that the full range of issues related to this proposed action are addressed and all significant issues identified, comments and suggestions are invited from all interested parties. Comments or questions concerning the proposed action and the Supplemental EIS should be directed to the FHWA at the address provided above.

(Catalog of Federal Domestic Assistance Program Number 20.205, Highway Planning and Construction. The regulations implementing Executive Order 12372 regarding intergovernmental consultation on Federal programs and activities apply to this program.)

Issued on: August 1, 2011.
Philip Forst,
Environmental Specialist, Federal Highway Administration, Saint Paul, Minnesota 55101.

[FR Doc. 2011-20347 Filed 8-9-11; 8:45 am]

BILLING CODE 4910-22-P